DEPARTMENT OF AGRICULTURE

Submission for OMB Review; Comment Request

November 29, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Generic Clearance to Conduct Formative Research.

OMB Control Number: 0584-0524.

Summary of Collection: Diet has a significant impact on the health of citizens and is linked to four leading causes of disease, which can reduce the quality of life and cause premature death. While these diet-related problems affect all Americans, they have a greater impact on the disadvantaged populations reached by many of the Food and Nutrition Service (FNS) programs. One of FNS' goals includes improving the nutrition of children and low-income families by providing access to program benefits and nutrition education. The basis of FNS' approach rests on the philosophies that all health communications and social marketing activities must be science-based, theoretically grounded, audience-driven, and results-oriented. FNS will collect information through formative research methods that will include focus groups, interviews (dyad, triad, telephone, etc.), surveys and web-based information gathering tools. The formative research is essential to advancing “Eat Smart Play Hard” Campaign as well as other FNS nutrition education and outreach efforts.

Need and Use of the Information: FNS will collect information to provide formative input and feedback on how best to reach and motivate the targeted population. The collected information will provide input regarding the potential use of materials and products during both the developmental and testing stages. FNS will also collect information regarding effective nutrition education and outreach initiatives being implemented by State agencies that administer nutrition assistance programs to address critical nutrition program access issues.

Description of Respondents: Individuals or households.

Number of Respondents: 10,000.

Frequency of Responses: Reporting: Other (one-time).

Total Burden Hours: 7,008.

Ruth Brown,
Departmental Information Collection Clearance Officer.

[FR Doc. E6-20423 Filed 12-1-06; 8:45 am]

BILLING CODE 3410-30-P